DEPARTMENT OF DEFENSE

Department of the Army

Surplus Properties; Notice

AGENCY: Department of the Army, DoD.

ACTION: Notice.

SUMMARY: This amended notice provides information regarding the Chattanooga (Volunteer Army Ammunition Plant) USARC that was determined surplus to the United States needs in accordance with the Defense Base Closure and Realignment Act of 1990, Public Law 101-510, as amended, and the 2005 Base Closure and Realignment Commission Report, as approved, and following screening with Federal agencies and Department of Defense components. This Notice amends the Notice published in the Federal Register (71 FR 26081) on May 8, 2007.

DATES: Effective immediately, by adding the following surplus property notice.

FOR FURTHER INFORMATION CONTACT: Headquarters, Department of the Army, Assistant Chief of Staff for Installation Management, Base Realignment and Closure (BRAC) Division, Attn: DAIM-BD, 600 Army Pentagon, Washington, DC 20310-0600 or at ArmyBRAC2005@hqda.army.mil.

SUPPLEMENTARY INFORMATION:

Tennessee

Chattanooga—Chattanooga (Volunteer Army Ammunition Plant) USARC, 6703 Bonny Oaks Drive; Notice corrects surplus property to approximately two acres, including buildings 228, 229 and a small storage building.

Authority: This action is authorized by the Defense Base Closure and Realignment Act of 1990, Title XXIX of the National Defense Authorization Act for Fiscal Year 1991, Public Law 101-510; the Base Closure Community Redevelopment and Homeless Assistance Act of 1994, Public Law 103-421 and 10 U.S.C. 113.

Dated: November 2, 2010.
Joseph F. Calcara,
Deputy Assistant Secretary of the Army (Installations and Housing) (OASA (I&E).

[FR Doc. 2010-29205 Filed 11-18-10; 8:45 am]

BILLING CODE 3710-08-P